DEPARTMENT OF JUSTICE

Antitrust Division

Notice Pursuant to the National Cooperative Research and Production Act of 1993—Cooperative Research Group on Energy Storage for Electric Grid

Notice is hereby given that, on February 4, 2022, pursuant to Section 6(a) of the National Cooperative Research and Production Act of 1993, 15 U.S.C. 4301 et seq. (“the Act”), Cooperative Research Group on Energy Storage for Electric Grid (“ESEG”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Central Research Institute of Electric Power Industry (CRIEPI), Kanagawa, JAPAN; EN BW Energie Württemberg AG, Karlsruhe, GERMANY; CEZ, a.s., Prague, CZECH REPUBLIC; Tokyo Electric Power Company Holdings, Inc., Tokyo, JAPAN; and ENGIE SA, Courbevoie, FRANCE. The general area of ESEG's planned activity is to have as its major goal testing and modeling specific aspects of performance degradation and fire potential in a generic battery energy storage system.

Suzanne Morris,
Chief, Premerger and Division Statistics Antitrust Division.

[FR Doc. 2022-05179 Filed 3-10-22; 8:45 am]

BILLING CODE P